DEPARTMENT OF TRANSPORTATION

Federal Aviation Administration

14 CFR Parts 61, 63, and 65

[Docket No. FAA-2003-15431; Special Federal Aviation Regulation No. 100]

RIN 2120-AH98

Relief for U.S. Military and Civilian Personnel Who Are Assigned Outside the United States in Support of U.S. Armed Forces Operations

AGENCY: Federal Aviation Administration (FAA), DOT.

ACTION: Final rule; request for comments.

SUMMARY: The FAA is replacing an existing Special Federal Aviation Regulation (SFAR) with a new SFAR that allows Flight Standards District Offices (FSDO) to accept expired flight instructor certificates and inspection authorizations for renewals from U.S. military and civilian personnel who are assigned outside the United States in support of U.S. Armed Forces operations. This SFAR also allows FSDOs to accept expired airman written test reports for certain practical tests from U.S. military and civilian personnel who are assigned outside the United States in support of U.S. Armed Forces operations. This action is necessary to avoid penalizing U.S. military and civilian personnel who are unable to meet the regulatory time limits of their flight instructor certificate, inspection authorization, or airman written test report because they are serving outside the United States in support of U.S. Armed Forces operations. The effect of this action is to give U.S. military and civilian personnel who are assigned outside the United States in support of U.S. Armed Forces operations extra time to meet the certain eligibility requirements under the current rules.

DATES: This SFAR is effective June 20, 2003. We must receive comments on or before July 21, 2003. This SFAR expires June 20, 2005.

ADDRESSES: Mail your comments to the Public Docket Office, Department of Transportation, 400 Seventh Street, SW., Room PL-401, Washington, DC 20590-0001. Or, send your comments through the Internet to http://dms.dot.gov.

FOR FURTHER INFORMATION CONTACT: John Lynch, Certification Branch, AFS-840, General Aviation and Commercial Division, Flight Standards Service, Federal Aviation Administration, 800 Independence Avenue, SW., Washington, DC 20591; telephone (202) 267-3844.

SUPPLEMENTARY INFORMATION:

Comments Are Welcome

Under 14 CFR part 11, the FAA may issue a final rule with request for comments, which is a rule issued in final (with an effective date) that invites public comment on the rule. Although this action is a final rule and was not preceded by a notice of proposed rulemaking, we invite your comments on this SFAR. The most useful comments are those that are specific and related to issues raised by the SFAR, and that explain the reason for any recommended change. We specifically invite comments on the economic, environmental, energy, federalism, international trade, energy, and overall regulatory aspects of the SFAR that might suggest a need to modify it. Factual information that supports your ideas and suggestions is extremely helpful in evaluating the effectiveness of this action and determining whether additional rulemaking action is needed.

To ensure consideration, you must identify the Rules Docket number in your comments, and you must send comments to one of the addresses specified under the ADDRESSES section of this preamble. We will consider all communications received on or before the closing date for comments, and we may amend or withdraw this SFAR in light of the comments received. All comments received will be available, both before and after the closing date for comments, in the Rules Docket for examination by interested persons. We will file in the Rules Docket a report that summarizes each public contact related to the substance of this rule.

You may review the public docket containing comments on this SFAR in person in the Dockets Office between 9 a.m. and 5 p.m., Monday through Friday, except Federal holidays. The Dockets Office is on the plaza level of the Nassif Building at the Department of Transportation at the address specified in the ADDRESSES section. Also, you may review the public docket on the Internet at http://dms.dot.gov.

If you want us to acknowledge receipt of your comments on this SFAR, you must include with your comments a self-addressed, stamped postcard on which you identify the Rules Docket number of this rulemaking. We will date-stamp the postcard and return it to you.

Availability of Rulemaking Documents

You can get an electronic copy of this SFAR using the Internet through FAA's Web page at http://www.faa.gov/avr/arm/nprm/nprm.htm or through the Government Printing Office's Web page at http://www.access.gpo.gov/su_docs/aces/aces140.html.

You can get a paper copy by sending a request to the Federal Aviation Administration, Office of Rulemaking, ARM-1, 800 Independence Avenue, SW., Washington, DC 20591, or by calling (202) 267-9680. Make sure to identify the docket number of this rulemaking.

Small Entity Inquiries

The Small Business Regulatory Enforcement Fairness Act of 1996 (SBREFA) requires the FAA to report inquiries from small entities concerning information on, and advice about, compliance with statutes and regulations within the FAA's jurisdiction, including interpretation and application of the law to specific sets of facts supplied by a small entity. If your organization is a small entity and you have a question, contact your local FAA official. If you do not know how to contact your local FAA official, you may contact the FAA Office of Rulemaking, ARM-27, Federal Aviation Administration, 800 Independence Avenue, SW., Washington, DC 20591, telephone (888) 551-1594. Internet users can find additional information on SBREFA in the FAA's Web page at http://www.faa.gov/avr/arm/sbrefa.html. You may send inquiries to the following Internet address: 9-AWA-SBREFA@faa.gov.

Background

As a result of the terrorist attacks of September 11, 2001, many U.S. military and civilian personnel were assigned outside the United States in support of Operation Enduring Freedom. Because of the expected duration of these assignments, the FAA determined that the flight instructor certificates, inspection authorizations, and airman written test reports held by some U.S. military and civilian personnel may expire before they return to the United States. If so, these individuals would have to reestablish their qualifications. The FAA believes it is unfair to penalize these military and civilian personnel in this manner. For this reason, we adopted a Special Federal Aviation Regulation to provide relief to a narrow range of individuals in a narrow set of circumstances. SeeSFAR 96—Relief for Participants in Operation Enduring Freedom in parts 61, 63, and 65 of title 14 of the Code of Federal Regulations (67 FR 30524, May 6, 2002).

At the time the FAA adopted SFAR 96, we did not foresee the extent of the mobilization of U.S. Armed Forces around the world. SFAR 96 is aimed at providing relief to those who are mobilized in support of the war on terrorism. That war is ongoing. However, U.S. Armed Forces are engaged in activities, including the international effort to disarm Iraq, that have also resulted in overseas assignments for both military and civilian personnel. These personnel are in the same situation as those who are eligible for relief under SFAR 96. They are located away from the facilities and resources that would allow them to keep their credentials current. It would not be fair to extend relief to those who are fighting terrorism under Operation Enduring Freedom, but not to extend it to those who, although similarly situated, are not assigned to Enduring Freedom. Therefore, the FAA is superceding SFAR 96 with a new SFAR that applies to military and civilian personnel assigned overseas in support of any and all U.S. Armed Forces operations. Those who were eligible for relief under SFAR 96 would continue to be eligible for relief under this SFAR.

The purpose of this SFAR is to respond to the needs of U.S. military and civilian personnel who are assigned outside the United States in support of U.S. Armed Forces operations. Most of these U.S. military and civilian personnel are or will be located at military bases that are away from their normal training or work environment. There are no FAA aviation safety inspectors, designated examiners, or FAA facilities readily available in the areas where these U.S. military and civilian personnel are assigned. The FAA determined that we should provide relief to those U.S. military and civilian personnel who are unable to comply with the regulatory time constraints of their flight instructor certificate, inspection authorization, or airman written test report as a result of their assignment outside the United States in support of U.S. Armed Forces operations. Under similar circumstances in the past, the FAA has taken similar action. During Operation Desert Shield/Desert Storm, the FAA issued SFAR No. 63 for this same purpose. See56 FR 27160, June 12, 1991.

As described below, this SFAR is narrowly focused on providing a reasonable amount of regulatory relief to a specific class of individuals while avoiding, to the extent possible and foreseeable, unintended adverse impacts on safety. For example, although the SFAR gives additional time for renewing a flight instructor certificate, the person will still have to meet the proficiency or experience requirements of 14 CFR 61.197 in order to re-qualify.

Who Is Affected by This SFAR?

To be eligible for the relief provided by this SFAR, a person must meet two criteria—one related to the person's assignment and the second related to the expiration of the person's certificate, authorization, or test report.

Assignment. The person must have served in a civilian or military capacity outside the United States in support of U.S. Armed Forces operations some time between September 11, 2001, and June 20, 2005. The term “United States” is defined under 14 CFR 1.1 and means “the States, the District of Columbia, Puerto Rico, and the possessions, including the territorial waters and the airspace of those areas.”

“In support of U.S. Armed Forces operations” means an assignment that supports operations being conducted by our U.S. Army, Navy, Air Force, Marine Corps, and Coast Guard, including their regular and reserve components. Members serving without component status are also covered. A person seeking relief under this SFAR must be able to show that he or she had an assignment as described above by providing appropriate documentation that is described below.

Expiration. The person's flight instructor certificate, inspection authorization, or airman written test report must have expired some time between September 11, 2001, and 6 calendar months after returning to the United States, or by June 20, 2005, whichever date is earlier.

Renewing a Flight Instructor Certificate

The FAA regulations governing flight instructor certificates provide that they expire 24 calendar months after the month of issuance. The regulations also provide that a flight instructor may renew his or her certificate before it expires, but if it expires, the flight instructor must get a new certificate. If you are interested in the details of how to get or renew a flight instructor certificate, please see14 CFR 61.197 and 61.199.

This SFAR changes the existing regulations for a certain class of individuals by allowing FAA Flight Standards District Offices to accept for a limited amount of time an expired flight instructor certificate for the purpose of renewing the certificate. Therefore, a person who can show the kind of evidence required by this SFAR (described below) can apply for renewal of a flight instructor certificate under 14 CFR 61.197. A person cannot exercise the privileges of a flight instructor certificate if it has expired, but the person can renew the flight instructor certificate under the limited circumstances described in this SFAR.

Airman Written Test Reports of Parts 61, 63, and 65

Generally, FAA regulations give airmen a limited amount of time to take a practical test after passing a knowledge test. For example, 14 CFR 61.39(a)(1) gives a person 24 calendar months. This SFAR permits an extension of the expiration date of the airman written test reports of parts 61, 63, and 65. The extension can be for up to six calendar months after returning to the United States or June 20, 2005, whichever date is earlier.

Renewing an Inspection Authorization

Under 14 CFR 65.92, an inspection authorization expires on March 31 of each year. Under 14 CFR 65.93, a person can renew an inspection authorization for an additional 12 calendar months by presenting certain evidence to the FAA during the month of March. This SFAR changes the existing regulations for individuals eligible under this SFAR by allowing FAA Flight Standards District Offices to accept for a limited amount of time an expired inspection authorization for the purpose of renewing the authorization. Therefore, a person who can show the kind of evidence required by this SFAR (described below) can apply for renewal of an inspection authorization under 14 CFR 65.93. If an inspection authorization expires, the person must not exercise the privileges of the authorization until that person renews the authorization. In this case, to meet the renewal requirements the person must attend a refresher course (see § 65.93(a)(4)) or submit to an oral test (see § 65.93(a)(5)) within 6 months after returning to the United States from an assignment while outside the United States in support of U.S. Armed Forces operations.

Evidence of an Assignment Outside the United States in Support of U.S. Armed Forces Operations

A person must show one of the following kinds of evidence to establish that the person is eligible for the relief provided by this SFAR:

1. An official U.S. Government notification of personnel action, or equivalent document, showing the person was a U.S. civilian on official duty for the U.S. Government and was assigned outside the United States in support of U.S. Armed Forces operations at some time between September 11, 2001, and June 20, 2005;

2. An official military order that shows the person was assigned to military duty outside the United States in support of U.S. Armed Forces operations at some time between September 11, 2001, and June 20, 2005; or

3. A letter from the person's military commander or civilian supervisor providing the dates during which the person served outside the United States in support of U.S. Armed Forces operations at some time between September 11, 2001, and June 20, 2005.

Justification for Final Rule With Request for Comments

Under the Administrative Procedure Act, 5 U.S.C. 553, agencies generally must publish regulations for public comment and give the public at least 30 days notice before adopting regulations. There is an exception to these requirements if the agency for “good cause” finds that notice and public procedure are impracticable, unnecessary, or contrary to the public interest. When we invoke the good cause” exception, we have to publish a statement of our finding and the reasons for it.

Under 14 CFR part 11, the FAA is issuing this SFAR as a final rule with request for comment. The FAA has determined that issuing a notice of proposed rulemaking (NPRM) is unnecessary. An NPRM is unnecessary because the agency does not anticipate any substantive comments. When the FAA issued SFAR No. 96 for Operation Enduring Freedom, we received no comments. The FAA will consider any comments that it receives on or before the closing date for comments, and may amend or withdraw this SFAR in light of the comments it receives. The FAA finds good cause to make this SFAR effective immediately upon publication. To make this SFAR effective 30 days after publication in the Federal Register would be contrary to the public interest. A delayed effective date could adversely affect the ability of airmen to get renewals in a timely fashion.

International Compatibility

In keeping with U.S. obligations under the Convention on International Civil Aviation, it is FAA policy to comply with International Civil Aviation Organization (ICAO) Standards and Recommended Practices to the maximum extent practicable. The FAA determined that there are no ICAO Standards and Recommended Practices that relate to this SFAR.

Paperwork Reduction Act

In accordance with the Paperwork Reduction Act of 1995, 44 U.S.C. 3507(d), the FAA has determined that there are no new requirements for information collection associated with this SFAR.

Economic Evaluation

Proposed changes to Federal regulations must undergo several economic analyses. First, Executive Order 12866, Regulatory Planning and Review, directs that each Federal agency propose or adopt a regulation only upon a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act requires agencies to consider international standards and, where appropriate, that they be the basis of U.S. standards. And fourth, the Unfunded Mandates Reform Act of 1995 requires agencies to prepare a written assessment of the costs, benefits, and other effects of proposed or final rules that include a Federal mandate likely to result in the expenditure by State, local, or tribal governments, in the aggregate, or by the private sector, of $100 million or more, in any one year (adjusted for inflation).

The Department of Transportation Order DOT 2100.5 prescribes policies and procedures for simplification, analysis, and review of regulations. If it is determined that the expected impact is so minimal that the regulation does not warrant a full evaluation, a statement to that effect and the basis for it is included in the preamble. The FAA has determined that the expected economic impact of this SFAR is so minimal that it does not warrant a full regulatory evaluation. This action imposes no costs on operators subject to this rule; however, it does provide some unquantifiable benefits to some who would avoid the costs of having to reestablish expired credentials. Since benefits exceed costs, the FAA has determined that this SFAR is consistent with the objectives of Executive Order 12866.

Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide range of small entities, including small businesses, not-for-profit organizations and small governmental jurisdictions.

Agencies must perform a review to determine whether a proposed or final rule will have a significant economic impact on a substantial number of small entities. If the determination is that it will, the agency must prepare a regulatory flexibility analysis as described in the Act.

However, if an agency determines that a proposed or final rule is not expected to have a significant economic impact on a substantial number of small entities, section 605(b) of the RFA provides that the head of the agency may so certify and a regulatory flexibility analysis is not required. The certification must include a statement providing the factual basis for this determination, and the reasoning should be clear.

This action imposes no costs on any small entities subject to this rule. Consequently, the FAA certifies that the rule will not have a significant economic impact on a substantial number of small entities. We request comments from the public on this issue.

International Trade Impact Analysis

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards. In accordance with the above statute, the FAA has assessed the potential effect of this final rule to be minimal and therefore has determined that this rule will not result in an impact on international trade by companies doing business in or with the United States.

Unfunded Mandates Reform Act

The Unfunded Mandates Reform Act of 1995 (UMRA), enacted as Pub. L. 104-4 on March 22, 1995, is intended, among other things, to curb the practice of imposing unfunded Federal mandates on State, local, and tribal governments. Title II of UMRA requires each Federal agency to prepare a written statement assessing the effects of any Federal mandate in a proposed or final agency rule that may result in a $100 million or more expenditure (adjusted annually for inflation) in any one year by State, local, and tribal governments, in the aggregate, or by the private sector; such a mandate is deemed to be a “significant regulatory action.”

This SFAR does not contain such a mandate. Therefore, the requirements of title II of UMRA do not apply.

Executive Order 13132, Federalism

The FAA analyzed this final rule under the principles and criteria of Executive Order 13132, Federalism. We determined that this action will not have a substantial direct effect on the States, or the relationship between the national government and the States, or on the distribution of power and responsibilities among the various levels of government. Therefore, we determined that this final rule does not have federalism implications.

Environmental Analysis

FAA Order 1050.1D defines FAA actions that may be categorically excluded from preparation of a National Environmental Policy Act (NEPA) environmental impact statement. In accordance with FAA Order 1050.1D, appendix 4, paragraph 4(j) this rulemaking action qualifies for a categorical exclusion.

Energy Impact

We have assessed the energy impact of this SFAR in accord with the Energy Policy and Conservation Act (EPCA), Pub. L. 94-163, as amended (42 U.S.C. 6362), and FAA Order 1053.1. The FAA has determined that this SFAR is not a major regulatory action under the provisions of the EPCA.

List of Subjects

14 CFR Part 61

Aircraft, Aircraft pilots, Airmen, Airplanes, Air safety, Air transportation, Aviation safety, Balloons, Helicopters, Rotorcraft, Students.

14 CFR Part 63

Air safety, Air transportation, Airman, Aviation safety, Safety, Transportation.

14 CFR Part 65

Airman, Aviation safety, Air transportation, Aircraft.

The Rule

In consideration of the foregoing, the Federal Aviation Administration amends parts 61, 63, and 65 of title 14 Code of Federal Regulations as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Remove SFAR 96.

3. Add Special Federal Aviation Regulation (SFAR) No. 100 to read as follows:

SFAR No. 100—Relief for U.S. Military and Civilian Personnel Who Are Assigned Outside the United States in Support of U.S. Armed Forces Operations

1. Applicability. Flight Standards District Offices are authorized to accept from an eligible person, as described in paragraph 2 of this SFAR, the following:

(a) An expired flight instructor certificate to show eligibility for renewal of a flight instructor certificate under § 61.197, or an expired written test report to show eligibility under part 61 to take a practical test;

(b) An expired written test report to show eligibility under §§ 63.33 and 63.57 to take a practical test; and

(c) An expired written test report to show eligibility to take a practical test required under part 65 or an expired inspection authorization to show eligibility for renewal under § 65.93.

2. Eligibility. A person is eligible for the relief described in paragraph 1 of this SFAR if:

(a) The person served in a U.S. military or civilian capacity outside the United States in support of the U.S. Armed Forces' operation during some period of time from September 11, 2001, to June 20, 2005;

(b) The person's flight instructor certificate, airman written test report, or inspection authorization expired some time between September 11, 2001, and 6 calendar months after returning to the United States, or June 20, 2005, whichever is earlier; and

(c) The person complies with § 61.197 or § 65.93 of this chapter, as appropriate, or completes the appropriate practical test within 6 calendar months after returning to the United States, or June 20, 2005, whichever is earlier.

3. Required documents. The person must send the Airman Certificate and/or Rating Application (FAA Form 8710-1) to the appropriate Flight Standards District Office. The person must include with the application one of the following documents, which must show the date of assignment outside the United States and the date of return to the United States:

(a) An official U.S. Government notification of personnel action, or equivalent document, showing the person was a civilian on official duty for the U.S. Government outside the United States and was assigned to a U.S. Armed Forces' operation some time between September 11, 2001, and June 20, 2005;

(b) Military orders showing the person was assigned to duty outside the United States and was assigned to a U.S. Armed Forces' operation some time between September 11, 2001, and June 20, 2005; or

(c) A letter from the person's military commander or civilian supervisor providing the dates during which the person served outside the United States and was assigned to a U.S. Armed Forces' operation some time between September 11, 2001, and June 20, 2005.

4. Expiration date. This Special Federal Aviation Regulation No. 100 expires June 20, 2005, unless sooner superseded or rescinded.

PART 63—CERTIFICATION: FLIGHT CREWMEMBERS OTHER THAN PILOTS

4. The authority citation for part 63 continues to read as follows:

Authority: 49 U.S.C. app. 1354(a), 1355, 1421, 1422, and 1427; 49 U.S.C. 106(g).

5. Remove SFAR 96.

6. Add Special Federal Aviation Regulation (SFAR) No. 100 by reference as follows:

Special Federal Aviation Regulations

* * * * *

SFAR No. 100—Relief for U.S. Military and Civilian Personnel Who Are Assigned Outside the United States in Support of U.S. Armed Forces Operations

PART 65—CERTIFICATION: AIRMEN OTHER THAN FLIGHT CREWMEMBERS

7. The authority citation for part 65 continues to read as follows:

Authority: 49 U.S.C. 106(g), 40113, 44701-44703, 44707, 44709-44711, 45102-45103, 45301-45302.

8. Remove SFAR 96.

9. Add Special Federal Aviation Regulation (SFAR) No. 100 by reference as follows:

Special Federal Aviation Regulations

* * * * *

SFAR No. 100—Relief for U.S. Military and Civilian Personnel Who Are Assigned Outside the United States in Support of U.S. Armed Forces Operations

Issued in Washington, DC, on June 16, 2003.
Marion C. Blakey,
Administrator.

[FR Doc. 03-15643 Filed 6-19-03; 8:45 am]

BILLING CODE 4910-13-P